Title 3—

The President

Proclamation 9106 of April 21, 2014

Earth Day, 2014

By the President of the United States of America

A Proclamation

Over four decades ago, Americans from all walks of life came together to tackle a shared challenge. Pollution damaged our health and livelihoods—from children swimming in contaminated streams to workers exposed to dangerous chemicals to city residents living under a thick haze of smog. The first Earth Day was a call to action for every citizen, every family, and every public official. It gave voice to the conservation movement, led to the creation of the Environmental Protection Agency, and pushed our Nation to adopt landmark laws on clean air and water. This Earth Day, we remember that when Americans unite in common purpose, we can overcome any obstacle.

Today, we face another problem that threatens us all. The overwhelming judgment of science tells us that climate change is altering our planet in ways that will have profound impacts on all of humankind. Already, longer wildfire seasons put first responders at greater risk. Farmers must cope with increased soil erosion following heavy downpours and greater stresses from weeds, plant diseases, and insect pests. Increasingly severe weather patterns strain infrastructure and damage our communities, especially low-income communities, which are disproportionately vulnerable and have few resources to prepare. The consequences of climate change will only grow more dire in the years to come.

That is why, last year, I took executive action to prepare our Nation for the impacts of climate change. As my Administration works to build a more resilient country, we also remain committed to averting the most catastrophic effects. Since I took office, America has increased the electricity it produces from solar energy by more than tenfold, tripled the electricity it generates from wind energy, and brought carbon pollution to its lowest levels in nearly two decades. In the international community, we are working with our partners to reduce greenhouse gas emissions around the globe. Along with States, utilities, health groups, and advocates, we will develop commonsense and achievable carbon pollution standards for our biggest pollution source—power plants.

We are also taking on environmental challenges by increasing fuel efficiency, restoring public lands, and curbing emissions of mercury and other toxic chemicals. We are safeguarding the water our families drink and the waterways and oceans that sustain our livelihoods. This February, we proposed new standards to protect farm workers from dangerous pesticides. And because caring for our planet requires commitment from all of us, we are engaging organizations, businesses, and individuals in these efforts.

As we mark this observance, let us reflect on the mission of the first Earth Day and recall our power to forge a cleaner, healthier future. Let us accept our responsibilities to future generations and meet today's tests with the same energy, passion, and sense of purpose.

NOW, THEREFORE, I, BARACK OBAMA, President of the United States of America, by virtue of the authority vested in me by the Constitution and the laws of the United States, do hereby proclaim April 22, 2014, as Earth Day. I encourage all Americans to participate in programs and activities that will protect our environment and contribute to a healthy, sustainable future.

IN WITNESS WHEREOF, I have hereunto set my hand this twenty-first day of April, in the year of our Lord two thousand fourteen, and of the Independence of the United States of America the two hundred and thirty-eighth.

[FR Doc. 2014-09532

Filed 4-23-14; 11:15 am]

Billing code 3295-F4